DEPARTMENT OF TRANSPORTATION

Federal Aviation Administration

14 CFR Part 39

[Docket No. FAA-2006-24868; Directorate Identifier 2006-NM-103-AD; Amendment 39-14698; AD 2006-15-17]

RIN 2120-AA64

Airworthiness Directives; Fokker Model F.28 Mark 0070 and 0100 Airplanes

AGENCY: Federal Aviation Administration (FAA), Department of Transportation (DOT).

ACTION: Final rule.

SUMMARY: The FAA is adopting a new airworthiness directive (AD) for all Fokker Model F.28 Mark 0070 and 0100 airplanes. This AD requires modification of the wiring distribution of the alternating current bus transfer power system and the right-hand and left-hand windshield anti-icing system, as necessary. This AD results from a report of electrical sparks coming out of the flight deck from a panel behind the left seat. We are issuing this AD to prevent failure of the sliding window heating element(s), due to electrical overload, which could result in smoke and fire in the cockpit.

DATES: This AD becomes effective September 5, 2006.

The Director of the Federal Register approved the incorporation by reference of a certain publication listed in the AD as of September 5, 2006.

ADDRESSES: You may examine the AD docket on the Internet at http://dms.dot.gov or in person at the Docket Management Facility, U.S. Department of Transportation, 400 Seventh Street, SW., Nassif Building, Room PL-401, Washington, DC.

Contact Fokker Services B.V., Technical Services Dept., P.O. Box 231, 2150 AE Nieuw-Vennep, the Netherlands, for service information identified in this AD.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Fokker Model F.28 Mark 0070 and 0100 airplanes. That NPRM was published in the Federal Register on May 25, 2006 (71 FR 30072). That NPRM proposed to require modification of the wiring distribution of the alternating current bus transfer power system and the right-hand and left-hand windshield anti-icing system, as necessary.

Comments

We provided the public the opportunity to participate in the development of this AD. We received no comments on the NPRM or on the determination of the cost to the public.

Conclusion

We have carefully reviewed the available data and determined that air safety and the public interest require adopting the AD as proposed.

Costs of Compliance

This AD will affect about 10 airplanes of U.S. registry. The required actions will take about 3 work hours per airplane, at an average labor rate of $80 per work hour. Based on these figures, the estimated cost of the AD for U.S. operators is $2,400, or $240 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-15-17 Fokker Services B.V.: Amendment 39-14698. Docket No. FAA-2006-24868; Directorate Identifier 2006-NM-103-AD.

Effective Date

(a) This AD becomes effective September 5, 2006.

Affected ADs

(b) None.

Applicability

(c) This AD applies to all Fokker Model F.28 Mark 0070 and 0100 airplanes, certificated in any category.

Unsafe Condition

(d) This AD results from a report of electrical sparks coming out of the flight deck from a panel behind the left seat. We are issuing this AD to prevent failure of the sliding window heating element(s), due to electrical overload, which could result in smoke and fire in the cockpit.

Compliance

(e) You are responsible for having the actions required by this AD performed within the compliance times specified, unless the actions have already been done.

Modification of Wiring Distribution

(f) Within 36 months after the effective date of this AD, modify the wiring distribution of the alternating current bus transfer power system and the right-hand and left-hand windshield anti-icing system, by accomplishing all of the actions specified in the Accomplishment Instructions of Fokker Service Bulletin SBF100-30-027, dated May 9, 2005, as applicable; including Fokker Manual Change Notification—Maintenance Documentation MCNM F100-098, dated May 9, 2005, and the drawings listed in Table 1 of this AD. (To conform to certain Office of the Federal Register requirements for incorporating these materials by reference, the table identifies the date of the service bulletin for undated drawings.)

Table 1.—Drawings Included in Fokker Service Bulletin SBF100-30-027
Fokker drawing | Sheet | Issue | Date
W41043 | 007 | H | May 9, 2005.
W41043 | 008 | H | May 9, 2005.
W41249 | 006 | F | May 9, 2005.
W41249 | 007 | F | May 9, 2005.
W41249 | 008 | F | May 9, 2005.
W41249 | 009 | G | May 9, 2005.
W41249 | 010 | G | May 9, 2005.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Dutch airworthiness directive NL-2005-009, dated June 30, 2005, also addresses the subject of this AD.

Material Incorporated by Reference

(i) You must use Fokker Service Bulletin SBF100-30-027, dated May 9, 2005; including Fokker Manual Change Notification—Maintenance Documentation MCNM F100-098, dated May 9, 2005; and the Fokker drawings identified in Table 2 of this AD; to perform the actions that are required by this AD, unless the AD specifies otherwise. The Director of the Federal Register approved the incorporation by reference of this document in accordance with 5 U.S.C. 552(a) and 1 CFR part 51. Contact Fokker Services B.V., Technical Services Dept., P.O. Box 231, 2150 AE Nieuw-Vennep, the Netherlands, for a copy of this service information. You may review copies at the Docket Management Facility, U.S. Department of Transportation, 400 Seventh Street SW., Room PL-401, Nassif Building, Washington, DC; on the Internet at http://dms.dot.gov; or at the National Archives and Records Administration (NARA).

For information on the availability of this material at the NARA, call (202) 741-6030, or go to http://www.archives.gov/federal_register/code_of_federal_regulations/ibr_locations.html.

Table 2.—Attached Drawings Incorporated by Reference
Fokker drawing | Sheet | Issue | Date
W41043 | 007 | H | May 9, 2005.
W41043 | 008 | H | May 9, 2005.
W41249 | 006 | F | May 9, 2005.
W41249 | 007 | F | May 9, 2005.
W41249 | 008 | F | May 9, 2005.
W41249 | 009 | G | May 9, 2005.
W41249 | 010 | G | May 9, 2005.

Issued in Renton, Washington, on July 20, 2006.
Ali Bahrami,
Manager, Transport Airplane Directorate, Aircraft Certification Service.

[FR Doc. E6-12092 Filed 7-28-06; 8:45 am]

BILLING CODE 4910-13-P